ENVIRONMENTAL PROTECTION AGENCY

[FRL OP-OFA-192]

Environmental Impact Statements; Notice of Availability

Responsible Agency: Office of Federal Activities, General Information 202-564-5632 or https://www.epa.gov/nepa.

Weekly receipt of Environmental Impact Statements (EIS)

Filed August 11, 2025 10 a.m. EST Through August 18, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250118, Draft, FEMA, OR, Oregon Implementation Plan for National Flood Insurance Program—Endangered Species Act Integration, Comment Period Ends: 10/06/2025, Contact: Portia Ross 425-487-4713.

EIS No. 20250119, Draft, USFWS, HI, Kauai Island Utility Cooperative Habitat Conservation Plan, Comment Period Ends: 10/21/2025, Contact: Koa Matsuoka 808-210-6295.

EIS No. 20250120, Final, BLM, WY, West Antelope III Coal Lease Application, Review Period Ends: 09/22/2025, Contact: Alfred Elser 307-775-6146.

Amended Notice

EIS No. 20250074, Revised Draft, USMC, TT, Commonwealth of the Northern Mariana Islands Joint Military Training, Comment Period Ends: 09/04/2025, Contact: Lisa Graham 703-939-7701. Revision to FR Notice Published 06/06/2025; Extending the Comment Period from 08/20/2025 to 09/04/2025.

Dated: August 18, 2025.
Nancy Abrams,
Associate Director, Office of Federal Activities.

[FR Doc. 2025-16134 Filed 8-21-25; 8:45 am]

BILLING CODE 6560-50-P